DEPARTMENT OF TRANSPORTATION

Federal Aviation Administration

14 CFR Part 39

[Docket No. FAA-2020-1170; Project Identifier MCAI-2020-00720-R; Amendment 39-21575; AD 2021-11-13]

RIN 2120-AA64

Airworthiness Directives; Bell Textron Canada Limited Helicopters

AGENCY: Federal Aviation Administration (FAA), DOT.

ACTION: Final rule.

SUMMARY: The FAA is adopting a new airworthiness directive (AD) for Bell Textron Canada Limited (Bell) Model 429 helicopters. This AD requires inspecting certain serial-numbered Emergency Flotation System (EFS) inflation hoses and depending on the results of those inspections, marking certain parts or removing certain parts from service. This AD was prompted by a report that a float compartment on an EFS did not inflate. The FAA is issuing this AD to address the unsafe condition on these products.

DATES: This AD is effective July 15, 2021.

The Director of the Federal Register approved the incorporation by reference of a certain document listed in this AD as of July 15, 2021.

ADDRESSES: For Safran Aerosystems Services service information identified in this final rule, contact Bell Textron Canada Limited, 12,800 Rue de l'Avenir, Mirabel, Quebec J7J1R4; telephone 450-437-2862 or 800-363-8023; fax 450-433-0272; or at https://www.bellcustomer.com. You may view the referenced service information at the FAA, Office of the Regional Counsel, Southwest Region, 10101 Hillwood Pkwy., Room 6N-321, Fort Worth, TX 76177. It is also available on the internet at https://www.regulations.gov by searching for and locating Docket No. FAA-2020-1170.

Examining the AD Docket

You may examine the AD docket at https://www.regulations.gov by searching for and locating Docket No. FAA-2020-1170; or in person at Docket Operations between 9 a.m. and 5 p.m., Monday through Friday, except Federal holidays. The AD docket contains this final rule, the Transport Canada AD, any service information that is incorporated by reference, any comments received, and other information. The street address for Docket Operations is U.S. Department of Transportation, Docket Operations, M-30, West Building Ground Floor, Room W12-140, 1200 New Jersey Avenue SE, Washington, DC 20590.

FOR FURTHER INFORMATION CONTACT: Matt Fuller, AD Program Manager, Operational Safety Branch, Airworthiness Products Section, General Aviation & Rotorcraft Unit, FAA, 10101 Hillwood Pkwy., Fort Worth, TX 76177; telephone 817-222-5110; email matthew.fuller@faa.gov.

SUPPLEMENTARY INFORMATION:

Background

The FAA issued a notice of proposed rulemaking (NPRM) to amend 14 CFR part 39 by adding an AD that would apply to Bell Model 429 helicopters with a Bell EFS kit part number (P/N) 429-706-069-101/-103/-105/-121/-123/-125/-139/-141/-143/or -157 manufactured before July 2019, with a float supply hose manufactured before January 2014, installed, except for float supply hoses marked with “SB 025-69-21” above the external identification marking. The NPRM published in the Federal Register on March 23, 2021 (86 FR 15434). In the NPRM, the FAA proposed to require within 100 hours time-in-service (TIS), removing each EFS supply hose and inspecting each end (also referred to as fitting or banjo) of the EFS supply hose using a certain plastic cable tie, and depending on the results of those inspections, removing from service certain parts and replacing those parts with airworthy parts. The NPRM also proposed to require marking a green dot on the base of certain supply hoses and writing “SB 025-69-21” above the external identification marking of the EFS with indelible ink. Finally, the NPRM proposed to prohibit installing any EFS supply hose manufactured before January 2014 unless it has been inspected in accordance with the NPRM. The NPRM was prompted by Canadian AD CF-2020-21R1, issued August 19, 2020 (Transport Canada AD CF-2020-21R1), by Transport Canada, which is the aviation authority for Canada, to correct an unsafe condition for all serial-numbered Bell Model 429 helicopters. Transport Canada advises that during maintenance on an EFS, the third compartment of the left forward float did not inflate. Transport Canada also advises that an investigation determined the supply hose for the gas flow from the pressurized cylinder to the float compartment was blocked due to a manufacturing defect. Bell advised that similar supply hoses are installed on various EFS part numbers, which could be installed on different helicopter type designs. Transport Canada further advises that this condition, if not detected and corrected, could result in partial inflation of the EFS during an emergency landing on water, preventing a timely egress from the helicopter, and injury to helicopter occupants.

Accordingly, Transport Canada AD CF-2020-21R1 requires a one-time special detailed inspection of the affected system to verify that there is no blockage through the EFS supply hoses and replacement, as required, of the affected supply hoses. Transport Canada AD CF-2020-21R1 also renders any affected EFS supply hoses not eligible as a replacement part on Bell Model 429 helicopters.

Discussion of Final Airworthiness Directive

Comments

The FAA received no comments on the NPRM or on the determination of the costs.

Conclusion

These helicopters have been approved by the aviation authority of Canada and are approved for operation in the United States. Pursuant to the FAA's bilateral agreement with Canada, Transport Canada, its technical representative, has notified the FAA of the unsafe condition described in its AD. The FAA reviewed the relevant data and determined that air safety requires adopting this AD as proposed. Accordingly, the FAA is issuing this AD to address the unsafe condition on these helicopters.

Related Service Information Under 1 CFR Part 51

The FAA reviewed Safran Aerosystems Services Service Bulletin No. 025-69-21, Revision 00, dated March 23, 2020 (SB 025-69-21). SB 025-69-21 is attached to Bell Alert Service Bulletin No. 429-20-52, dated March 30, 2020 (ASB 429-20-52). SB 025-69-21 is incorporated by reference in this AD. ASB 429-20-52 is not incorporated by reference in this AD. SB 025-69-21 specifies, for certain EFSs manufactured before July 2019, and any float supply hose manufactured before January 2014, performing a special inspection to verify that there is no blockage through the float supply hoses of the EFS inflation system.

This service information is reasonably available because the interested parties have access to it through their normal course of business or by the means identified in the ADDRESSES section.

Differences Between This AD and the Transport Canada AD

The Transport Canada AD requires compliance within 600 hours air time or within the next 24-month inspection of the EFS, whichever occurs first, whereas this AD requires compliance within 100 hours TIS. The Transport Canada AD limits the applicability to certain EFS supply hoses listed in SB 025-69-21, whereas this AD applies to certain EFS supply hoses manufactured before January 2014 but excludes EFS supply hoses marked with “SB 025-69-21.”

Costs of Compliance

The FAA estimates that this AD affects 110 helicopters of U.S. Registry and that operators may incur the following costs in order to comply with this AD. Labor costs are estimated at $85 per work-hour.

Removing and inspecting each EFS supply hose will take about 0.75 work-hour, for an estimated cost of $64 per hose.

Installing or replacing each EFS supply hose will take about 0.10 work-hour with a minimal parts cost, for an estimated cost of $9 per hose.

Marking each EFS supply hose with a green dot and the applicable service bulletin number will take a minimal amount of time at a nominal cost.

According to Safran's service information, some of the costs of this AD may be covered under warranty, thereby reducing the cost impact on affected individuals. The FAA does not control warranty coverage by Safran; accordingly, all costs are included in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-11-13 Bell Textron Canada Limited: Amendment 39-21575; Docket No. FAA-2020-1170; Project Identifier MCAI-2020-00720-R.

(a) Applicability

This airworthiness directive (AD) applies to Bell Textron Canada Limited (Bell) Model 429 helicopters, certificated in any category, with a Bell Emergency Flotation System (EFS) kit part number (P/N) 429-706-069-101/-103/-105/-121/-123/-125/-139/-141/-143/or -157 manufactured before July 2019, with a float supply hose manufactured before January 2014, installed, except for float supply hoses marked with “SB 025-69-21” above the external identification marking.

(b) Unsafe Condition

This AD defines the unsafe condition as a blocked float supply hose installed on an EFS. This condition could result in partial inflation of an EFS float during an emergency landing on water and subsequently preventing a timely egress from the helicopter.

(c) Effective Date

This AD is effective July 15, 2021.

(d) Compliance

You are responsible for performing each action required by this AD within the specified compliance time unless it has already been accomplished prior to that time.

(e) Required Actions

(1) Within 100 hours time-in-service (TIS):

(i) Remove each EFS supply hose from the float and inspect each end of the EFS supply hose by inserting a plastic cable tie, 300 mm minimum × 5 mm maximum (11.811 in. minimum × .196 in. maximum), into the holes of the related fitting as shown in Figure 1 of Safran Aerosystems Services Service Bulletin No. 025-69-21, Revision 00, dated March 23, 2020 (SB 025-69-21).

Note 1 to paragraph (e)(1)(i): Each end of the supply hose may also be referred to as fitting or banjo.

(ii) If the cable tie does not pass through the hose, before further flight, remove the EFS supply hose from service and replace it with an airworthy part.

(iii) If the cable tie passes through the supply hose, mark a green dot with indelible ink on the base of the supply hose and write “SB 025-69-21” above the external identification marking of the EFS with indelible ink.

(2) As of the effective date of this AD, do not install an EFS supply hose manufactured before January 2014 on any helicopter unless the requirements in paragraph (e)(1) of this AD have been completed.

(f) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (g)(1) of this AD. Information may be emailed to: 9-AVS-AIR-730-AMOC@faa.gov.

(2) Before using any approved AMOC, notify your appropriate principal inspector, or lacking a principal inspector, the manager of the local flight standards district office/certificate holding district office.

(g) Related Information

(1) For more information about this AD, contact Matt Fuller, AD Program Manager, Operational Safety Branch, Airworthiness Products Section, General Aviation & Rotorcraft Unit, FAA, 10101 Hillwood Pkwy., Fort Worth, TX 76177; telephone 817-222-5110; email matthew.fuller@faa.gov.

(2) The subject of this AD is addressed in Transport Canada AD CF-2020-212R1, dated August 19, 2020. You may view the Transport Canada AD on the internet at https://www.regulations.gov in Docket No. FAA-2020-1170.

(h) Material Incorporated by Reference

(1) The Director of the Federal Register approved the incorporation by reference of the service information listed in this paragraph under 5 U.S.C. 552(a) and 1 CFR part 51.

(2) You must use this service information as applicable to do the actions required by this AD, unless the AD specifies otherwise.

(i) Safran Aerosystems Services Service Bulletin No. 025-69-21, Revision 00, dated March 23, 2020 (SB 025-69-21).

Note 2 to paragraph (h)(2)(i): SB 025-69-21 is attached to Bell Alert Service Bulletin No. 429-20-52, dated March 30, 2020, which is not incorporated by reference in this AD.

(ii) [Reserved]

(3) As the design approval holder for the product identified in paragraph (a) of this AD, contact Bell Textron Canada Limited for the Safran Aerosystems Services service information identified in this AD, at Bell Textron Canada Limited, 12,800 Rue de l'Avenir, Mirabel, Quebec J7J1R4; telephone 450-437-2862 or 800-363-8023; fax 450-433-0272; or at https://www.bellcustomer.com.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fedreg.legal@nara.gov, or go to: https://www.archives.gov/federal-register/cfr/ibr-locations.html.

Issued on May 18, 2021.
Lance T. Gant,
Director, Compliance & Airworthiness Division, Aircraft Certification Service.

[FR Doc. 2021-12042 Filed 6-9-21; 8:45 am]

BILLING CODE 4910-13-P